Title 3—

The President

Presidential Determination No. 02-32 of September 30, 2002

Presidential Determination on the Transfer of Funds from International Organizations and Programs Funds to the Child Survival and Health Programs Fund

Memorandum for the Secretary of State

Pursuant to the authority vested in me by the Constitution and laws of the United States, including section 610 of the Foreign Assistance Act of 1961, as amended (FAA), I hereby determine it is necessary for the purposes of the FAA that the $34 million in FY 2002 International Organizations and Programs funds that were allocated for the United Nations Population Fund be transferred to, and consolidated with, the Child Survival and Health Programs Fund, and such funds are hereby transferred and consolidated. The transferred funds will be administered by the U.S. Agency for International Development in support of reproductive health and maternal health and related programs.

You are authorized and directed to transmit this determination to the Congress and to arrange for its publication in the Federal Register.

B

THE WHITE HOUSE,

Washington, September 30, 2002.

[FR Doc. 02-25617

Filed 10-4-02; 8:45 am]

Billing code 4710-10-P